DEPARTMENT OF AGRICULTURE

Meeting of the Land Between the Lakes Advisory Board

AGENCY: Forest Service, Agriculture.

ACTION: Notice of meeting.

SUMMARY: The Land Between The Lakes Advisory Board will hold its first meeting to consider various matters. Notice of this meeting is given under the Federal Advisory Committee Act, 5 U.S.C. App.2.

The meeting agenda includes the following:

(1) Welcome and Introductions

(2) Federal Advisory Committee Guidelines

(3) Protection Act

(4) Bylaws, Operating Procedures, and Public Comment Process

(5) Land Between The Lakes and Forest Service Overview

(6) Forest Planning Overview

The meeting is open to the public; however, due to the length of the scheduled agenda, there will not be an opportunity for oral statements from the public at the meeting. Written comments are invited and may be mailed to: William P. Lisowsky, Area Supervisor, Land Between The Lakes, 100 Van Morgan Drive, Golden Pond, Kentucky 42211. Written comments must be received at Land Between The Lakes by February 7, 2001 in order for copies to be provided to the members at the meeting. Future meetings may provide opportunities for oral comment.

DATES: The meeting will be held on Thursday, February 15, 2001, 8:30 a.m. to 4:00 p.m., CDT.

ADDRESSES: The meeting will be held at Lake Barkley State Resort, Cadiz, Kentucky, and will be open to the public.

FOR FURTHER INFORMATION CONTACT: Sharon Byers, Advisory Board Liaison, Land Between The Lakes, 100 Van Morgan Drive, Golden Pond, Kentucky 42211, 270-924-2002.

SUPPLEMENTARY INFORMATION: Members of the Land Between The Lakes Advisory Board and their appointing agencies are:

Mr. C. Lee Anderson, United States Department of Agriculture

Mr. C. Thomas Bennett, KY Department of Fish & Wildlife

Mr. Reed Conder, Governor of Kentucky

Ms. Ann Fairhurst, United States Department of Agriculture

Mr. James R. Fox, TN Wildlife Resources Agency

Mr. Ben D. Hall, KY Department of Fish & Wildlife

Ms. Dortha N. Lyons, Governor of Kentucky

Mr. Robert Marks, Sr., United States Department of Agriculture

Mr. Jesse Mayo, Governor of Tennessee

Mr. Berlin Stanley Moore, Jr., Trigg County Judge Executive

Ms. Della B. Oliver, Lyon County Judge Executive

Mr. Gordon W. Rahn, United States Department of Agriculture

Mr. James E. Stevens, Lyon County Judge Executive

Mr. Jesse R. Thomas, Trigg County Judge Executive

Mr. David G. Wallace, Stewart County Executive

Mr. Nickolas W. Watson, Stewart County Executive

Ms. Ramay W. Winchester, Governor of Tennessee

Dated: January 4, 2001.
William P. Lisowsky,
Area Supervisor, Land Between The Lakes.

[FR Doc. 01-1002 Filed 1-11-01; 8:45 am]

BILLING CODE 3410-11-P